DEPARTMENT OF TRANSPORTATION

Federal Railroad Administration

[Docket No. FRA-2020-0056]

Petition for Approval Extension: Canadian Pacific Railway Company

AGENCY: Federal Railroad Administration (FRA), Department of Transportation (DOT).

ACTION: Notice of petition for extension of approval of track inspection test program.

SUMMARY: This document provides the public notice that on July 7, 2021, Canadian Pacific Railway (CP) petitioned the Federal Railroad Administration (FRA) to extend an existing temporary suspension of some visual track inspections to allow for continuation of a previously-approved Test Program designed to test track inspection technologies (i.e., an autonomous track geometry measurement system) and new operational approaches to track inspections (i.e., combinations of autonomous inspection and traditional visual inspections).

FOR FURTHER INFORMATION CONTACT: Yu-Jiang Zhang, Staff Director, Track and Structures Division, Office of Railroad Safety, FRA, 1200 New Jersey Avenue SE, Washington, DC 20590, telephone (202) 493-6460 or email yujiang.zhang@dot.gov; Aaron Moore, Attorney, Office of Chief Counsel, FRA, 1200 New Jersey Avenue SE, Washington, DC 20590, telephone (202) 493-7009 or email aaron.moore@dot.gov.

SUPPLEMENTARY INFORMATION: On July 22, 2020, FRA conditionally approved the Test Program and CP's petition under 49 CFR 211.51 to suspend §§ 213.233(b)(3) and 213.233(c) as applied to operations under the Test Program. A copy of the Test Program, FRA's conditional approval of the Test Program, and a previously published Federal Register notice explaining FRA's rational for approving the Test Program and related suspension are available for review in the docket.¹

¹ https://www.regulations.gov/document/FRA-2020-0056-0001 (Test Program); https://www.regulations.gov/document/FRA-2020-0056-0002 (FRA's approval decision); https://www.regulations.gov/document/FRA-2020-0056-0004 (FRA's published notice of approval).

As approved, the Test Program includes three separate phases over the course of 12 months as outlined in Exhibit C of the Program.² CP began the Test Program on August 7, 2020. Accordingly, the Test Program is currently set to expire on August 7, 2021.

² See https://www.regulations.gov/document/FRA-2020-0056-0001.

CP is requesting to extend the Test Program until April 6, 2022 to complete the Program. CP cites the impact of COVID-19 as the primary reason for requesting the extension, noting that the railroad's efforts to safeguard the health of its employees and variety of restrictions associated with COVID-19 have “impacted logistics, training, and change management activities associated with the Test Program.” In support of its request, CP states that it will continue to comply with all other conditions and requirements of FRA's July 22, 2020, approval letter. CP further notes that for phase 3 of the Test Program, it intends to take a more conservative approach than that provided for in FRA's approval letter by continuing manual visual inspections at the frequency specified in phase 2 of the Test Program.

A copy of the petition, as well as any written communications concerning the petition, if any, are available for review online at www.regulations.gov.

Interested parties are invited to participate in these proceedings by submitting written views, data, or comments.

All communications concerning these proceedings should identify the appropriate docket number and may be submitted by any of the following methods:

• Website: http://www.regulations.gov. Follow the online instructions for submitting comments.

Communications received by August 26, 2021 will be considered by FRA before final action is taken. Comments received after that date will be considered if practicable. Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety Chief Safety Officer.

[FR Doc. 2021-15935 Filed 7-26-21; 8:45 am]

BILLING CODE 4910-06-P